DEPARTMENT OF DEFENSE

48 CFR Part 213

[DFARS Case 2000-D019]

Defense Federal Acquisition Regulation Supplement; Overseas Use of the Purchase Card in Contingency, Humanitarian, or Peacekeeping Operations

AGENCY: Department of Defense (DoD).

ACTION: Final rule.

SUMMARY: DoD has issued a final rule amending the Defense Federal Acquisition Regulation Supplement (DFARS) to permit contracting officers supporting an overseas contingency, humanitarian, or peacekeeping operation to use the Governmentwide commercial purchase card on a stand-alone basis for purchases valued at or below the simplified acquisition threshold. Use of the purchase card streamlines purchasing and payment procedures and, therefore, increases operational efficiency.

EFFECTIVE DATE: November 1, 2001.

FOR FURTHER INFORMATION CONTACT: Ms. Angelena Moy, Defense Acquisition Regulations Council, OUSD(AT&L)DP(DAR), IMD 3C132, 3062 Defense Pentagon, Washington, DC 20301-3062. Telephone (703) 602-1302; facsimile (703) 602-0350.

SUPPLEMENTARY INFORMATION:

A. Background

This final rule amends the policy at DFARS 213.301 to permit contracting officers supporting a contingency operation, as defined in 10 U.S.C. 101(a)(13), or a humanitarian or peacekeeping operation, as defined in 10 U.S.C. 2302(8), to use the Governmentwide commercial purchase card on a stand-alone basis for purchases valued at or below the simplified acquisition threshold. In accordance with FAR 2.101, the simplified acquisition threshold for contingency, humanitarian, or peacekeeping operations is $200,000.

Use of the purchase card at the $200,000 threshold is subject to the existing conditions at DFARS 213.301 and the following additional conditions: (1) The supplies or services must be immediately available; and (2) Only one delivery and one payment will be made. These additional conditions are similar to those placed on use of the Standard Form 44, Purchase Order-Invoice-Voucher, in accordance with FAR 13.306 and DFARS 213.306.

DoD published a proposed rule at 65 FR 56858 on September 20, 2000. DoD received no comments on the proposed rule. DoD has adopted the proposed rule as a final rule without change.

This rule was not subject to Office of Management and Budget review under Executive Order 12866, dated September 30, 1993.

B. Regulatory Flexibility Act

DoD certifies that this final rule will not have a significant economic impact on a substantial number of small entities within the meaning of the Regulatory Flexibility Act, 5 U.S.C. 601, et seq., because the rule applies only to purchases that are made outside the United States for use outside the United States in support of contingency, humanitarian, or peacekeeping operations.

C. Paperwork Reduction Act

The Paperwork Reduction Act does not apply because the rule does not impose any information collection requirements that require the approval of the Office of Management and Budget under 44 U.S.C. 3501, et seq.

List of Subjects in 48 CFR Part 213

Government procurement.

Michele P. Peterson,
Executive Editor, Defense Acquisition Regulations Council.

Therefore, 48 CFR Part 213 is amended as follows:

1. The authority citation for 48 CFR Part 213 continues to read as follows:

Authority: 41 U.S.C. 421 and 48 CFR Chapter 1.

PART 213—SIMPLIFIED ACQUISITION PROCEDURES

2. Section 213.301 is amended by adding paragraph (3) to read as follows:

213.301 Government-wide commercial purchase card.

* * * * *

(3) A contracting officer supporting a contingency operation as defined in 10 U.S.C. 101(a)(13) or a humanitarian or peacekeeping operation as defined in 10 U.S.C. 2302(8) also may use the Governmentwide commercial purchase card to make a purchase that exceeds the micro-purchase threshold but does not exceed the simplified acquisition threshold, if;

(i) The supplies or services being purchased are immediately available;

(ii) One delivery and one payment will be made; and

(iii) The requirements of paragraphs (2)(i) and (ii) of this section are met.

[FR Doc. 01-27371 Filed 10-31-01; 8:45 am]

BILLING CODE 5000-04-U